DEPARTMENT OF STATE

[Public Notice: 9755]

Department of State Performance Review Board Members

In accordance with section 4314(c)(4) of 5 United States Code, the Department of State has appointed the following individuals to the Department of State Performance Review Board for Senior Executive Service members:

Alan Evans, Chairperson, Deputy Comptroller, Bureau of the Comptroller and Global Financial Services, Department of State;

Nerissa Cook, Deputy Assistant Secretary, Bureau of International Organizations, Department of State;

Paul Dean, Assistant Legal Adviser, Office of the Legal Adviser, Department of State;

Wanda Nesbitt, Dean, Foreign Service Institute, Department of State; and,

William Todd, Principal Deputy Assistant Secretary, Bureau of South and Central Asian Affairs, Department of State.

Dated: September 22, 2016.
Arnold Chacon,
Director General of the Foreign Service and Director of Human Resources, Department of State.

[FR Doc. 2016-24895 Filed 10-13-16; 8:45 am]

BILLING CODE 4710-15-P